DEPARTMENT OF HOMELAND SECURITY

U.S. Customs and Border Protection

Agency Information Collection Activities: Application To Use the Automated Commercial Environment (ACE)

AGENCY: U.S. Customs and Border Protection (CBP), Department of Homeland Security.

ACTION: 60-Day Notice and request for comments; Extension of an existing collection of information: 1651-0105.

SUMMARY: As part of its continuing effort to reduce paperwork and respondent burden, CBP invites the general public and other Federal agencies to comment on an information collection requirement concerning the Application to Use the Automated Commercial Environment (ACE). This request for comment is being made pursuant to the Paperwork Reduction Act of 1995 (Pub. L. 104-13).

DATES: Written comments should be received on or before May 11, 2012, to be assured of consideration.

ADDRESSES: Direct all written comments to U.S. Customs and Border Protection, Attn: Tracey Denning, Regulations and Rulings, Office of International Trade, 799 9th Street NW., 5th Floor, Washington, DC 20229-1177.

FOR FURTHER INFORMATION CONTACT: Requests for additional information should be directed to Tracey Denning, U.S. Customs and Border Protection, Regulations and Rulings, Office of International Trade, 799 9th Street NW., 5th Floor, Washington, DC 20229-1177, at 202-325-0265.

SUPPLEMENTARY INFORMATION: CBP invites the general public and other Federal agencies to comment on proposed and/or continuing information collections pursuant to the Paperwork Reduction Act of 1995 (Pub. L. 104-13). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual cost burden to respondents or record keepers from the collection of information (total capital/startup costs and operations and maintenance costs). The comments that are submitted will be summarized and included in the CBP request for Office of Management and Budget (OMB) approval. All comments will become a matter of public record. In this document CBP is soliciting comments concerning the following information collection:

Title: Application to Use ACE.

OMB Number: 1651-0105.

Form Number: None.

Abstract: The Automated Commercial Environment (ACE) is a trade processing system that will eventually replace the Automated Commercial System (ACS), the current import system for U.S. Customs and Border Protection (CBP) operations. ACE supports government agencies with border-related missions, as well as the business community, with respect to moving goods across the border efficiently and securely. Once ACE is fully implemented, all related CBP functions and the trade community will be supported from a single common user interface. The CBP transition to ACE began in October 2003 with the launch of the ACE Secure Data Portal, a customized Web page that provides a single, user-friendly gateway to access CBP information via the internet for CBP, the trade community and Participating Government Agencies. In order to participate in the various ACE pilots, companies and/or individuals are required to submit basic information to CBP such as: their name; their employer identification number (EIN) or social security number, standard carrier alpha code (SCAC), and if applicable, a statement certifying their capability to connect to the internet. The application for the ACE Secure Data Portal is accessible at: http://www.cbp.gov/linkhandler/cgov/trade/automated/modernization/ace_app_info/ace_portal_app.ctt/ace_portal_app.pdf.

Action: CBP proposes to extend the expiration date of this information collection with no change to the burden hours or to the information collected.

Type of Review: Extension (without change).

Affected Public: Businesses.

Estimated Number of Respondents: 21,000.

Estimated Time per Response: 20 minutes.

Estimated Total Annual Burden Hours: 6,930.

Dated: March 6, 2012.
Tracey Denning,
Agency Clearance Officer, U.S. Customs and Border Protection.

[FR Doc. 2012-5840 Filed 3-9-12; 8:45 am]

BILLING CODE 9111-14-P